DEPARTMENT OF LABOR

Employment and Training Administration

[TA-W-82,371]

T-Mobile USA, Inc., Core Fault Isolation Team, Engineering Division, Bethlehem, Pennsylvania; Notice of Negative Determination on Reconsideration

On May 8, 2013, the Department of Labor issued an Affirmative Determination Regarding Application for Reconsideration for the workers and former workers of T-Mobile USA, Inc., Core Fault Isolation Team, Engineering Division, Bethlehem, Pennsylvania (subject firm). The Department's Notice was published in the Federal Register on May 24, 2013 (78 FR 31592). The subject workers are engaged in activities related to the supply of technical trouble-shooting services for T-Mobile USA, Inc. customers. T-Mobile USA, Inc. is an international mobile communications company.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on no shift in services and no company or customer imports of like or directly competitive services.

In the request for reconsideration, the petitioners asserted that the subject firm had acquired from a foreign country services like or directly competitive with those provided by the workers at the subject firm and that the subject workers provided value-added services to a firm that employed a worker group eligible to apply for Trade Adjustment Assistance (T-Mobile, Allentown, Pennsylvania; TA-W-81,520). Specifically, the request states “our separations were in fact attributable to the shift of services to a foreign country by T-Mobile USA.”

In support of the assertion that the workers are secondarily-affected, the request states “our team was created to provide this location [Allentown, Pennsylvania call center] with a value added service by providing the bridge for the communication gap between T-Mobile USA's Allentown technical support group and T-Mobile USA's engineering teams.”

During the reconsideration investigation, the Department carefully reviewed previously-submitted information, reviewed the certification of TA-W-81,520, and directed the subject firm to address the assertions in the request for reconsideration.

Information obtained during the reconsideration investigation revealed that the Core Fault Isolation Team received work orders from various call centers (not only the Allentown or Bethlehem, Pennsylvania centers), operation centers, and from other internal and external customers.

Based on information obtained during the reconsideration investigation, the Department affirms that the subject firm did not import from another country the supply of technical trouble-shooting services; that the subject firm did not shift to a foreign country or acquire from a foreign country the supply of services like or directly competitive with those provided by the workers at the subject firm; that the subject workers do not qualify as Downstream Producers because they did not supply value-added services, as defined by the Trade Act, as amended.

Conclusion

After careful review, I determine that the requirements of Section 222 of the Act, 19 U.S.C. 2272, have not been met and, therefore, affirm the negative determination applicable to workers and former workers of T-Mobile USA, Inc., Core Fault Isolation Team, Engineering Division, Bethlehem, Pennsylvania, in accordance with Section 223 of the Act, 19 U.S.C. 2273.

Signed in Washington, DC on this 12th day of March, 2014.
Del Min Amy Chen,
Certifying Officer, Office of Trade Adjustment Assistance.

[FR Doc. 2014-06678 Filed 3-25-14; 8:45 am]

BILLING CODE 4510-FN-P